NATIONAL SCIENCE FOUNDATION

Notice of Permit Emergency Provision Under the Antarctic Conservation Act of 1978 (Pub. L. 95-541)

AGENCY: National Science Foundation.

ACTION: Notice of permit emergency provision for hazardous waste stored in Antarctica at McMurdo Station for more than 15 months due to an emergency, as specified by § 671.17.

SUMMARY: The Program of Environment Safety and Health in the Division of Polar Programs in accordance with § 671.17, is giving notice that an emergency relating to considerations of human health and safety and ship safety caused hazardous waste to be stored at McMurdo Station for more than 15 months.

Hazardous waste in the form of batteries (1,600 lbs), biomedical waste from the clinic (4,500 lbs), chemical waste (31,000 lbs), compressed gases (2,000 lbs), hazardous debris (18,000 lbs), glycol (65,500 lbs), PCBs from cleanup of historic activities (1,100 lbs), petroleum products (132,600 lbs), radioactive material from scientific research (1,200 lbs) and solvents/paints (3,200 lbs) was segregated and packaged for removal from McMurdo Station at the end of the 2013-2014 season and was to be removed from the station in February 2014.

On 6 February 2014, cargo operations to load the containers containing the segregated and packaged waste from the ice pier onto the M/V Maersk Illinois were suspended due to safety issues. Conditions of very high winds (30 knots sustained and up to 50 knot gusts) and severe wave action made operations on the ice pier dangerous. Throughout the course of the two day storm, several of the lines from the ship to the ice pier parted and the ice pier fractured into multiple pieces. A short lull in the storm on 7 February provided the ship the opportunity to safely pull away from the ice pier. The storm brought an increasing number of icebergs to the area and in the interest of safety, the ship proceeded north away from McMurdo Station. Once the storm had subsided, the broken ice pier was found to be unfit for further operations and all containers (including those containing the packaged hazardous waste) which had not been previously loaded onto the cargo ship remained on station. The packaged waste material has been secured until removal during the 2014-2015 season.

FOR FURTHER INFORMATION CONTACT: Dr. Polly A. Penhale at (703) 292-7420.

Nadene G. Kennedy,
Polar Coordination Specialist, Division of Polar Programs.

[FR Doc. 2014-07668 Filed 4-4-14; 8:45 am]

BILLING CODE 7555-01-P